GENERAL SERVICES ADMINISTRATION

Notice of Intent To Prepare an Environmental Assessment

The General Services Administration intends to prepare an Environmental Assessment, with the National Capital Planning Commission (NCPC) participating as a cooperating agency, in compliance with the National Environmental Policy Act, on the following project:

Disposal of Square 62, (Lot Nos. 810, 813, 814 and 815), located at 2218 C Street, NW Washington, DC 20037.

Square 62 was acquired through condemnation in 1958 for the purpose of providing a security buffer to the newly constructed Department of State building on C Street, NW. GSA is currently maintaining Square 62 as a ceremonially landscaped buffer area.

Although security is still a major issue with any future development of Square 62, maintaining it, as a vacant landscaped buffer is no longer required. Square 62 produces no income and requires periodic expenses for maintenance and as a result, GSA is proposing to dispose of the Square 62 property under its disposal authority (the Federal Property and Administrative Services Act of 1949, as amended). Part of GSA's mission is to dispose of surplus Federal property that is no longer serving a Federal purpose but requires Federal expenses for upkeep and maintenance.

Alternatives being considered include:

• No Action Alternative—Taking no action and continuing to maintain Square 62 as a ceremonially landscaped security buffer area.

• Disposition of Square 62

Under the disposition alternative, GSA is considering the following:

• Disposing of Square 62 to the adjacent landowner, the American Pharmaceutical Association, (APhA). APhA wants to use the Square 62 property along with a portion of their existing property to build a new 193,000 square feet, five story, office building capable of housing roughly 800-850 workers.

• Disposing of Square 62 to some other entity, which would allow the option of developing a 100,000 square feet building, likely to be zoned SP-2 by District of Columbia (GSA appraisal 2001).

A public scoping meeting has been scheduled for: Thursday, April 25, 2002, at 7 pm, at the American Pharmaceutical Association Building, 2215 Constitution Avenue, Washington, DC 20405.

GSA is requesting your input to ensure that all pertinent issues are addressed in the Environmental Assessment (EA). In addition GSA and NCPC are soliciting comments under Section 106 of the National Historic Preservation Act as building actions under some of the alternatives could have an impact on other historic properties in the National Mall area.

All interested parties who would like to provide oral comments at the public scoping meeting should register to speak by calling (202) 708-5334.

At the meeting there will be a brief presentation about the proposed action and the EA process. Agencies and individuals will then be invited to offer their comments about the appropriate scope of the study. Those who have preregistered to speak by telephone will be given the first opportunity to speak. They will be followed by those persons who sign up to speak at the registration desk, the night of the scoping meeting. All speakers will be asked to limit their oral comments to five (5) minutes.

The meeting will also feature informational displays about the project and the environmental study, and meeting participants will have an opportunity to provide their input at these exhibits.

Agencies and the general public are also invited and encouraged to provide written comment in addition to, or in lieu of, comments at the public meeting. To be most helpful, scoping comments should clearly describe specific issues or topics that you think the EA should address, and should be received by GSA no later than May 12, 2002.

If you can not attend the Public Scoping meeting, please send comments to the address below.

Frank T. Thomas, General Services Administration, National Capital Region, Public Buildings Service, Office of Portfolio Management (WPT), Room 7600, 7th & D Streets 20407. FAX (202) 708-7671. (202) 708-4840. E-mail: Frank.Thomas@GSA.Gov.

Dated: April 9, 2002.
Nancy Czapek,
Executive Officer/Acting Director, Property Disposal.

[FR Doc. 02-9146 Filed 4-15-02; 8:45 am]

BILLING CODE 6820-23-M